DEPARTMENT OF HEALTH AND HUMAN SERVICES

Centers for Disease Control and Prevention

Request for Nominations of Potential Reviewers To Serve on the Disease, Disability, and Injury Prevention and Control Special Emphasis Panel (SEP)

ACTION: Notice of request for nominations.

SUMMARY: The Centers for Disease Control and Prevention (CDC) is soliciting nominations for possible membership on the Disease, Disability, and Injury Prevention and Control Special Emphasis Panel (SEP) in the National Center for Injury Prevention and Control (NCIPC), the National Center for Environmental Health (NCEH), and the Agency for Toxic Substances and Disease Registry (ATSDR).

DATES: Nominations for membership on the NCIPC, NCEH and ATSDR SEPs must be received no later than April 1, 2019. Packages received after this time will not be considered for the current membership cycle.

ADDRESSES: All nominations should be mailed to NCIPC Extramural Program Office (ERPO): Centers for Disease Control and Prevention, 4770 Buford Highway, Mailstop F-63, Atlanta, GA 30341, emailed (recommended) to NCIPC_PeerReview@cdc.gov, or faxed to (770) 488-4529.

FOR FURTHER INFORMATION CONTACT: Kenneth Roberts, Public Health Analyst, CDC/NCIPC/ERPO, 4770 Buford Highway, Mailstop F-63, Atlanta, GA 30341; Telephone: (404) 498-1427; Email: KRoberts3@cdc.gov.

SUPPLEMENTARY INFORMATION: The Disease, Disability, and Injury Prevention and Control Special Emphasis Panel provides advice and guidance to the Secretary, Department of Health and Human Services (HHS); the Director, Centers for Disease Control and Prevention (CDC), and the Administrator, Agency for Toxic Substances and Disease Registry (ATSDR) regarding the concept review, scientific and technical merit of grant and cooperative agreement assistance applications, and contract proposals relating to the causes, prevention, and control of diseases, disabilities, injuries, and impairments of public health significance; exposure to hazardous substances in the environment; health promotion and education; and other related activities that promote health and well-being. Nominations are being sought for individuals who have expertise and qualifications necessary to contribute to the accomplishment of NCIPC, NCEH and ATSDR SEP objectives. Reviewers with expertise in research for injury and violence prevention are sought to serve on the NCIPC SEPs, for research and evaluation related, but not limited to the following program fields: Child abuse and neglect, opioid use disorder and overdose, polysubstance use and impaired driving, suicide/self-directed violence, intimate partner violence, mechanisms of injury and violence research, motor vehicle injury, older adult falls, elder maltreatment, sexual violence, substance use and abuse, traumatic brain injury, teen dating violence, and youth violence related to NCIPC research priorities (see www.cdc.gov/injury/researchpriorities). Reviewers with expertise in the following research fields for prevention and reduction of adverse effects related to environmental hazards are sought to serve on the NCEH and ATSDR SEPs for research and evaluation related, but not limited to: Amyotrophic Lateral Sclerosis (ALS), perfluoroalkyl substances (PFAS) contamination in drinking water, environmental health, newborn screening, environmental pollutants (air/water), toxic substances most commonly found at facilities on the National Priorities List (NPL) (see www.atsdr.cdc.gov/spl), chemical releases, natural disasters, and other potential NCEH or ATSDR research priorities. In addition, reviewers with expertise in the following general and methodological fields are sought to serve on the NCIPC, NCEH and ATSDR SEPs: Economic evaluation, epidemiology, etiology of disease, community participatory research, implementation and translation science, intervention research, policy evaluation, research evaluation, qualitative research design, quantitative research design, statistics, and surveillance.

Members and Chairs shall be selected by the Secretary, HHS, or other official to whom the authority has been delegated, on an “as needed” basis in response to specific applications being reviewed with expertise to provide advice. Members will be selected from authorities in the various fields of prevention and control of diseases, disabilities, and injuries. Members of other chartered HHS advisory committees may serve on the panel if their expertise is required. Consideration is given to professional training and background, points of view represented, and upcoming applications to be reviewed by the committee.

Information about nominated potential reviewers will be maintained in the NCIPC Extramural Research Program Office (ERPO) Scientific Reviewer and Advisor Database. The work of reviewers' appointed to NCIPC, NCEH and ATSDR SEPs includes the initial review, discussion, and written critique and evaluation of applications. This work will enable the CDC/NCIPC, NCEH and ATSDR to fulfill its mission of funding meritorious research that provides vital knowledge about underlying risk and protective factors and strategies for: Violence and injury prevention (www.cdc.gov/injury), health effects from exposures to environmental agents and hazardous substances (www.atsdr.cdc.gov), and the environmental public health impact caused by intentional or unintentional events (www.cdc.gov/nceh).

The U.S. Department of Health and Human Services policy stipulates that committee membership be balanced in terms of points of view represented, and the committee's function. Appointments shall be made without discrimination on the basis of age, race, ethnicity, gender, sexual orientation, gender identity, HIV status, disability, and cultural, religious, or socioeconomic status. Nominees must be U.S. citizens, and cannot be full-time employees of the U.S. Government. Current participation on federal workgroups or prior experience serving on a federal advisory committee does not disqualify a candidate; however, HHS policy is to avoid excessive individual service on advisory committees and multiple committee memberships. CDC reviewers appointed to a SEP are not considered Special Government Employees and will not be required to file financial disclosure reports.

Nominees interested in serving as a potential reviewer on a SEP, CDC for NCIPC, NCEH, or ATSDR programs should submit the following items:

• Current curriculum vitae, highlighting specific areas of research interest and expertise as well as complete contact information (name, affiliation, mailing address, telephone number, and email address).

Nomination materials must be postmarked by April 1, 2019 and sent by U.S. mail to: NCIPC Extramural Research Program Office (ERPO): Centers for Disease Control and Prevention, 4770 Buford Highway, Mailstop F-63, Atlanta, Georgia 30341 or to the ERPO electronic mailbox NCIPC_PeerReview@cdc.gov. Nominations may be submitted by the candidate him- or herself, or by the person/organization recommending the candidate.

The Chief Operating Officer, Centers for Disease Control and Prevention, has been delegated the authority to sign Federal Register notices pertaining to announcements of meetings and other committee management activities for both CDC and the Agency for Toxic Substances and Disease Registry.

Sherri Berger,
Chief Operating Officer, Centers for Disease Control and Prevention.

[FR Doc. 2019-01212 Filed 2-5-19; 8:45 am]

BILLING CODE 4163-18-P